CONSUMER FINANCIAL PROTECTION BUREAU

[Docket No. CFPB-2024-0007]

Agency Information Collection Activities: Comment Request

AGENCY: Consumer Financial Protection Bureau.

ACTION: Notice and request for comment.

SUMMARY: In accordance with the Paperwork Reduction Act of 1995 (PRA), the Consumer Financial Protection Bureau (CFPB) is requesting the Office of Management and Budget's (OMB's) approval for a new information collection titled “Consumer Complaint Survey.”

DATES: Written comments are encouraged and must be received on or before May 6, 2024 to be assured of consideration.

ADDRESSES: You may submit comments, identified by the title of the information collection, OMB Control Number (see below), and docket number (see above), by any of the following methods:

• Federal eRulemaking Portal: http://www.regulations.gov. Follow the instructions for submitting comments.

• Email: PRA_Comments@cfpb.gov. Include Docket No. CFPB-2024-0007 in the subject line of the email.

• Mail/Hand Delivery/Courier: Comment Intake, Consumer Financial Protection Bureau (Attention: PRA Office), 1700 G Street NW, Washington, DC 20552. Because paper mail in the Washington, DC area and at the Bureau is subject to delay, commenters are encouraged to submit comments electronically.

Please note that comments submitted after the comment period will not be accepted. In general, all comments received will become public records, including any personal information provided. Sensitive personal information, such as account numbers or Social Security numbers, should not be included.

FOR FURTHER INFORMATION CONTACT: Requests for additional information should be directed to Anthony May, PRA Officer, at (202) 435-7278, or email: CFPB_PRA@cfpb.gov. If you require this document in an alternative electronic format, please contact CFPB_Accessibility@cfpb.gov. Please do not submit comments to these email boxes.

SUPPLEMENTARY INFORMATION:

Title of Collection: Consumer Complaint Survey.

OMB Control Number: 3170-00XX.

Type of Review: New information collection.

Affected Public: Individuals or households.

Estimated Number of Respondents: 13,200.

Estimated Total Annual Burden Hours: 6,600.

Abstract: The Dodd-Frank Wall Street Reform and Consumer Protection Act charges the CFPB with researching, analyzing, and reporting on topics relating to the CFPB's mission including consumer behavior, consumer awareness, and developments in markets for consumer financial products and services. To improve its understanding of consumers and institutional actors in financial markets, the CFPB makes use of data collected through the complaint process. The CFPB seeks to enhance the utility of these data by better understanding the broader population of consumers who experience issues with their financial products and services.

The CFPB proposes to collect data with two new surveys intended to identify factors that influence a consumer's decision to use the complaint process. The initial pilot survey will focus on consumers who have experienced issues with their credit cards and will include a sample of people who have used the CFPB's complaint process, and another sample of people who experienced similar issues but did not file a complaint with the CFPB. This design (known as a case-control study) will allow us to identify key factors that are associated with submitting regulatory complaints.

The pilot survey will inform a second survey which will focus on a broader range of products and services. The second survey will (to the extent feasible) cover additional products about which consumers can submit complaints to the CFPB including (but not limited to) mortgages, vehicle loans, bank accounts, and debts owed to third-party debt collectors. Both surveys will collect data about factors that may play a role in consumer's decision to submit a complaint. These include information about their use of a given product, the problems they encountered when using a given product, their attitudes and perceptions towards the product and its offeror, as well as demographic information.

Request for Comments: Comments are invited on: (a) Whether the collection of information is necessary for the proper performance of the functions of the CFPB, including whether the information will have practical utility; (b) The accuracy of the CFPB's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for OMB's approval. All comments will become a matter of public record.

Anthony May,
Paperwork Reduction Act Officer, Consumer Financial Protection Bureau.

[FR Doc. 2024-04775 Filed 3-5-24; 8:45 am]

BILLING CODE 4810-AM-P